DEPARTMENT OF COMMERCE

National Oceanic and Atmospheric Administration

50 CFR Part 648

[Docket No. 051104293-5344-02; I.D. 071306A]

Fisheries of the Northeastern United States; Scup Fishery; Adjustment to the 2006 Winter II Quota

AGENCY: National Marine Fisheries Service (NMFS), National Oceanic and Atmospheric Administration (NOAA), Commerce.

ACTION: Temporary rule; inseason adjustment.

SUMMARY: NMFS adjusts the 2006 Winter II commercial scup quota and possession limit. This action complies with Framework Adjustment 3 (Framework 3) to the Summer Flounder, Scup, and Black Sea Bass Fishery Management Plan, which established a process to allow the rollover of unused commercial scup quota from the Winter I period to the Winter II period.

DATES: This rule is effective November 1, 2006, through December 31, 2006.

FOR FURTHER INFORMATION CONTACT: Sarah McLaughlin, Fishery Policy Analyst, (978) 281-9279.

SUPPLEMENTARY INFORMATION: NMFS published a final rule in the Federal Register on November 3, 2003 (68 FR 62250), implementing a process, for years in which the full Winter I commercial scup quota is not harvested, to allow unused quota from the Winter I period to be added to the quota for the Winter II period, and to allow adjustment of the commercial possession limits for the Winter II period commensurate with the amount of quota rolled over from the Winter I period. Table 4 of the final 2006 quota specifications for summer flounder, scup, and black sea bass (70 FR 77060, December 29, 2005) presented detailed information regarding Winter II possession limits, based on the amount of scup to be rolled over from Winter I to Winter II.

For 2006, the Winter II quota is 1,901,983 lb (862,725 kg), and the best available landings information indicates that 1,827,598 lb (828,985 kg) remain of the Winter I quota of 5,382,589 lb (2,441,501 kg). Consistent with the intent of Framework 3, the full amount of unused 2006 Winter I quota is transferred to Winter II, resulting in a revised 2006 Winter II quota of 3,729,581 lb (1,691,709 kg). In addition to the quota transfer, the 2006 Winter II possession limit is increased, consistent with the rollover specifications established in the 2006 final rule (70 FR 77060), to 6,500 lb (2,948 kg) per trip to provide an appropriate opportunity for fishing vessels to obtain the increased Winter II quota.

Classification

This action is required by 50 CFR part 648 and is exempt from review under Executive Order 12866.

Authority: 16 U.S.C. 1801 et seq.

Dated: July 20, 2006.
James P. Burgess,
Acting Director, Office of Sustainable Fisheries, National Marine Fisheries Service.

[FR Doc. E6-11940 Filed 7-25-06; 8:45 am]

BILLING CODE 3510-22-S